DEPARTMENT OF JUSTICE

[OMB Number 1117-0038]

Agency Information Collection Activities; Proposed eCollection eComments Requested; Revision of a Currently Approved Collection; Title—Reporting and Recordkeeping for Digital Certificates—Form 251

AGENCY: Drug Enforcement Administration, Department of Justice.

ACTION: 60-Day notice.

SUMMARY: The Department of Justice (DOJ), Drug Enforcement Administration (DEA), will be submitting the following information collection request to the Office of Management and Budget (OMB) for review and approval in accordance with the Paperwork Reduction Act of 1995.

DATES: Comments are encouraged and will be accepted for 60 days until November 10, 2025.

FOR FURTHER INFORMATION CONTACT: If you have additional comments especially on the estimated public burden or associated response time, suggestions, or need a copy of the proposed information collection instrument with instructions or additional information, please contact Heather E. Achbach, Regulatory Drafting and Policy Support Section, Drug Enforcement Administration; Mailing Address: 8701 Morrissette Drive, Springfield, Virginia 22152; Telephone: (571) 776-3882; Email: Heather.E.Achbach@dea.gov or DEA.PRA@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

— Evaluate the accuracy of the agency's estimate of the burden of the proposed collection of information, including the validity of the methodology and assumptions used;

— Evaluate whether and if so how the quality, utility, and clarity of the information to be collected can be enhanced; and

— Minimize the burden of the collection of information on those who are to respond, including through the use of appropriate automated, electronic, mechanical, or other technological collection techniques or other forms of information technology, e.g., permitting electronic submission of responses.

Overview of This Information Collection

1. Type of Information Collection: Revision of a currently approved collection.

2. Title of the Form/Collection: Reporting and Recordkeeping for Digital Certificates

3. The agency form number, if any, and the applicable component of the Department sponsoring the collection: DEA Form 251. The applicable component within the Department of Justice is the Drug Enforcement Administration, Diversion Control Division.

4. Affected public who will be asked or required to respond, as well as a brief abstract:

Affected public (Primary): Business or other for-profit.

Affected public (Other): None.

Abstract: DEA collects information about reporting and recordkeeping for digital certificates. The application for a digital certificate is required to ensure that the person applying for the certificate is either a DEA registrant or someone who has power of attorney from a DEA registrant to sign orders for Schedule I and II substances. The DEA Certification Authority uses the information to verify the person's identity and eligibility to hold a DEA-issued digital certificate.

Under the proposed modifications of this collection, the collection will become online only and eliminate the need for paper forms. With the move to being online only, DEA is proposing to no longer have a notary requirement. Instead of the notary requirement, DEA is proposing to use www.login.gov as a part of the application. Last, the collection would only be one form (DEA Form 251) instead of four forms.

5. An estimate of the total number of respondents and the amount of time estimated for an average respondent to respond: DEA estimates that 86,262 registrants participate in this information collection. The time per response is 1 hour and 45 minutes for new applications and 15 minutes for renewals.

6. An estimate of the total public burden (in hours) associated with the proposed collection: DEA estimates that this collection takes 64,697 annual burden hours.

7. An estimate of the total annual cost burden associated with the collection, if applicable: $0.

Total Burden Hours
Activity | Number of respondents | Frequency | Total annual responses | Time per response (hours) | Total annual burden (hours)
New Applications | 28,754 | 1 | 28,754 | 1.75 (1 hour and 45 minutes) | 50,320
Renewals | 57,508 | 1 | 57,508 | 0.25 (15 minutes) | 14,377
Total | 86,262 | 1 | 86,262 | 0.750006 (45 minutes) | 64,697

If additional information is required contact: Darwin Arceo, Department Clearance Officer, United States Department of Justice, Office of Justice Management Division, Office of Chief Information Officer, Enterprise Portfolio Management, Two Constitution Square, 145 N Street NE, 4W-218, Washington, DC.

Dated: September 5, 2025.
Darwin Arceo,
Department Clearance Officer for PRA, U.S. Department of Justice.

[FR Doc. 2025-17274 Filed 9-8-25; 8:45 am]

BILLING CODE 4410-09-P